DEPARTMENT OF LABOR

Office of the Secretary

Submission for OMB Emergency Review: Comment Request

August 14, 2009.

The Department of Labor has submitted the following information collection request (ICR), utilizing emergency review procedures, to the Office of Management and Budget (OMB) for review and clearance in accordance with the Paperwork Reduction Act of 1995 (Pub. L. 104-13, 44 U.S.C. Chapter 35) and 5 CFR 1320.13. OMB approval has been requested by August 24, 2009. A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov. Interested parties are encouraged to send comments to the Office of Information and Regulatory Affairs, Attn: OMB Desk Officer for the Department of Labor—Employment and Training Administration (ETA), Office of Management and Budget, Room 10235, Washington, DC 20503, Telephone: 202-395-7316/Fax: 202-395-5806 (these are not toll-free numbers), E-mail: OIRA_submission@omb.eop.gov. To ensure appropriate consideration, please submit comments by no later than August 21, 2009. Please note, interested parties will be provided with an additional opportunity to comment when this collection of information is resubmitted to OMB under standard clearance procedures.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

Agency: Employment and Training Administration.

Type of Review: Revision of a current approved collection.

Title of Collection: Financial and Program Reporting and Performance Standards System for Indian and Native American Programs Under Title I, Section 166 of the Workforce Investment Act (WIA).

OMB Control Number: 1205-0422.

Frequency of Collection: Monthly and quarterly collection.

Affected Public: WIA, Section 166, Indian and Native American grant recipients.

Total Estimated Number of Respondents: 127.

Total Estimated Annual Burden Hours: 90,262.

Total Estimated Annual Costs Burden (does not include hourly costs): $0.

Description: The American Recovery and Reinvestment Act of 2009 (The Recovery Act) was signed into law by President Obama on February 17, 2009. To record the impact of the Recovery Act resources, more current information on participants and the services received is essential. Therefore, to obtain a more robust look at participants and services provided with the additional Recovery Act resources, the Employment and Training Administration (ETA) proposes to revise the current youth report to add additional reporting elements. This new report adds 9 additional data elements pertaining to Recovery Act participants and 5 additional data elements unrelated to the Recovery Act. In addition, the frequency of reporting for Recovery Act Participants will be monthly and the frequency of reporting for “regular” WIA, youth participants will increase to quarterly.

Why Are We Requesting Emergency Processing?

This collection comprises a participant and performance reporting strategy that will provide a more robust, “real time” view of the impact of the Recovery Act funds, providing greater information on levels of program participation, and provide more information about the characteristics of the participants served, and the types of services provided. The approval of this request is necessary to allow ETA to report performance accountability information immediately on the effective use of Recovery Act funds already received by Native American grantees. With these monthly reports more current information will be available on the number of Native American youth served with Recovery Act funds and the outcomes they achieved.

Darrin A. King,
Departmental Clearance Officer.

[FR Doc. E9-19965 Filed 8-19-09; 8:45 am]

BILLING CODE 4510-FN-P